DEPARTMENT OF TRANSPORTATION

Maritime Administration

Secretarial Extension of Authority; Marine War Risk Insurance Under Title XII of the Merchant Marine Act, 1936

On December 12, 2001, President George W. Bush approved the provision of vessel war risk insurance by memorandum for the Secretary of State and the Secretary of Transportation. The approval was for the provision by the Secretary of Transportation of insurance or reinsurance of vessels (including cargoes and crew) entering the Middle East region against loss or damage by war risks in the manner and to the extent approved in Title XII of the Merchant Marine Act, 1936 as amended (Act), 46 U.S.C App. 1281, et seq.

The President delegated to the Secretary of Transportation the authority vested in him by section 1202 of the Act, to approve the provision of insurance or reinsurance after the expiration of 6 months and to bring this approval to the attention of all operators and to arrange for its publication in the Federal Register.

On January 13, 2004 the Secretary of Transportation approved the extension of the authority to provide such insurance for a 1 year period, beginning December 13, 2003.

Dated: January 29, 2004.
By Order of the Maritime Administrator.
Joel C. Richard,
Secretary.

[FR Doc. 04-2275 Filed 2-3-04; 8:45 am]

BILLING CODE 4910-81-P